DEPARTMENT OF DEFENSE

Department of the Navy

Notice of Intent to Grant Exclusive Patent License; Grey Matter, LLC

AGENCY: Department of the Navy, DoD.

ACTION: Notice.

SUMMARY: The Department of the Navy hereby gives notice of its intent to grant to Grey Matter, LLC a revocable, nonassignable, exclusive license to practice in the field of use of Periodic Mesoporous Organosilicate (PMO) material for use as wearable Personal Protective Equipment (PPE). Wearable PPE will be designed for use in job-related occupational safety, health purposes, and other recreational activities. The PMO material will be designed to help protect from the hazardous chemicals of chlorine, ammonia, hydrogen chloride, sulfuric acid, hydrogen fluoride, formalin (formaldehyde), mercury, nitric acid, sulfur dioxide, phosgene, hydrogen bromide, nitric oxide, octamethylpyrophosphoramide, boron trifluoride, methyl bromide, phosphoryl trichloride, chlorine dioxide, bromine, nitrogen dioxide, phosphorous trichloride, fluorotrichloromethane, hydrogen sulfide, molybdophosphoric acid, toluene-2, 4-diisocyanate, fluorine, malathion, parathion, acetylene tetrabromide, 0-anisidine, sulfur trioxide, phosphine arsine, ethlene dibromide, pentachlorophenol, azinphos-methyl, 1,1,2,2-tetrachloroethane, potassium cyanide, tetrafluoroboric acid, tetrachloroethylene, cadium, deltamethrin, ethylamine, methylamine, ethylene dibromide, aldicarb, dichloroethyl ether, and nitrogen trifluoride in the United States, the Government-owned inventions described in U.S. Patent No. 7,754,145: Fluorphore Embedded/Incorporating/Bridged Periodic Mesoporous Organosilicas as Recognition Photo-Decontamination Catalysts, Navy Case No. 097,346//U.S. Patent Application No. 14/209,728: Microwave Initiation for Deposition of Porous Organosilicate Materials on Fabrics, Navy Case No. 102,325 and any continuations, divisionals or re-issues thereof.

DATES: Anyone wishing to object to the grant of this license must file written objections along with supporting evidence, if any, not later than October 2, 2014.

ADDRESSES: Written objections are to be filed with the Naval Research Laboratory, Code 1004, 4555 Overlook Avenue SW., Washington, DC 20375-5320.

FOR FURTHER INFORMATION CONTACT: Rita Manak, Head, Technology Transfer Office, NRL Code 1004, 4555 Overlook Avenue SW., Washington, DC 20375-5320, telephone 202-767-3083. Due to U.S. Postal delays, please fax 202-404-7920, email: rita.manak@nrl.navy.mil or use courier delivery to expedite response.

Authority: 35 U.S.C. 207, 37 CFR Part 404.

Dated: September 10, 2014.
N.A. Hagerty-Ford,
Commander, Office of the Judge Advocate General, U.S. Navy, Federal Register Liaison Officer.

[FR Doc. 2014-22141 Filed 9-16-14; 8:45 am]

BILLING CODE 3810-FF-P